DEPARTMENT OF COMMERCE

National Oceanic and Atmospheric Administration

[I.D. 011201B]

North Pacific Fishery Management Council; Public Meetings

AGENCY: National Marine Fisheries Service (NMFS), National Oceanic and Atmospheric Administration (NOAA), Commerce.

ACTION: Notice of public meetings.

SUMMARY: The North Pacific Fishery Management Council (Council) and its advisory committees will hold public meetings.

DATES: The meetings will be held Monday, February 5, 2001 through Thursday, February 8, 2001. See SUPPLEMENTARY INFORMATION for specific dates and times.

ADDRESSES: All meetings will be held at the Anchorage Hilton Hotel, 500 W. Third Avenue, Anchorage, AK, unless otherwise noted.

Council Address: North Pacific Fishery Management Council, 605 W. 4th Ave., Suite 306, Anchorage, AK 99501-2252.

FOR FURTHER INFORMATION CONTACT: Council staff, telephone: 907-271-2809.

SUPPLEMENTARY INFORMATION: The Council’s Advisory Panel will begin at 8 a.m., Monday, February 5, and continue through Thursday, February 8. The Scientific and Statistical Committee (SSC) will begin at 8 a.m. on Monday, February 5, and continue through Wednesday, February 7.

The Council will begin their plenary session at 8 a.m. on Wednesday, February 7, continuing through Monday, February 12, 2001. All meetings are open to the public except executive sessions which may be held during the week at which the Council will discuss personnel issues and/or current litigation.

Council: The agenda for the Council’s plenary session will include the following issues. The Council may take appropriate action on any of the issues identified.

1. Reports:

(a) Executive Director's Report.

(b) State Fisheries Report by Alaska Dept. of Fish and Game.

(c) NMFS Management Report.

(d) Enforcement and Surveillance reports by NMFS and the Coast Guard.

(e) Report on Marine Research Funds

(f) U.S. Fish and Wildlife Report on Eider Critical Habitat Final Rule.

2. Halibut Charter Individual Fishing Quotas (IFQ): Initial review of analysis, direction to staff.

3. Gulf of Alaska Ecosystem Research: Report from Prince William Sound Science Center.

4. Steller sea lion issues: discuss all aspects of current and planned management measures to protect Steller sea lions; take action as appropriate to initiate further management actions.

5. Receive report on Kodiak adaptive management experiment.

6. American Fisheries Act:

(a) Review final co-op reports and Bering Sea/Aleutian Islands (BSAI) salmon bycatch provisions; take action as appropriate.

(b) Discuss alternatives for processing sideboards and provide direction.

(c) Receive industry report on Pacific cod sideboards; take action as appropriate.

(d) Discuss the Report to Congress on fisheries during the first year of the American Fisheries Act.

7. Gulf of Alaska Rationalization: Receive committee report and provide further direction.

8. Administration of Community Development Quotas: Receive progress report and provide direction to committee.

9. Appointments to Council committees and Scientific and Statistical Committee.

10. Groundfish Management:

(a) Initial review of Pacific cod allocation (BSAI Amendment 68); direction to staff.

(b) Progress report on process of setting total allowable catch.

(c) Review a discussion paper on vessel-by-vessel catch and bycatch disclosure; task staff as appropriate.

11. Crab Management: Receive report from Crab Plan Team on bycatch; task staff as appropriate.

12. Staff Tasking: Review current staff tasking and projects to be tasked; provide direction to staff.

Advisory Meetings

Advisory Panel: The agenda for the Advisory Panel will mirror that of the Council listed above, with the exception of the reports under Item 1, and Item 9, appointments to committees.

Scientific and Statistical Committee: The Scientific and Statistical Committee will address the following issues:

1. SSC review of the November 30, 2000 biological opinion addressing Steller sea lion/groundfish fishery interactions.

2. Groundfish management issues listed under Council agenda.

3. Crab management issues listed under Council agenda.

4. Review initial analysis for Halibut Charter IFQ program and provide comments to staff and Council.

Committee and Workshop Meetings

IFQ Implementation Team will meet Sunday, February 4, between 1 p.m. and 5 p.m. in the Penthouse Meeting Room of the Westmark Hotel, 720 W. 5th Avenue, Anchorage, AK. The Team will review the draft Halibut Charter IFQ analysis and provide comments to the North Pacific Fishery Management Council.

Halibut Charter IFQ Industry Workgroupwill meet Monday, February 5, at 1 p.m. in the Iliamna Room at the Anchorage Hilton Hotel, to review the draft Halibut Charter IFQ analysis and provide comments to the North Pacific Fishery Management Council.

Gulf of Alaska Rationalization Committee will meet Thursday, February 8, at 6 p.m. in the Aleutian Room at the Anchorage Hilton Hotel, to continue work on elements and options of a rationalization plan for Gulf of Alaska groundfish fisheries.

Other committees and workgroups may hold impromptu meetings throughout the meeting week. Such meetings will be announced during regularly-scheduled meetings of the Council, Advisory Panel, and SSC, and will be posted at the hotel.

Although other issues not contained in this agenda may come before this Council for discussion, in accordance with the Magnuson-Stevens Fishery Conservation and Management Act, those issues may not be the subject of formal Council action during this meeting. Council action will be restricted to those issues specifically identified in the agenda listed in this notice.

Special Accommodations

These meetings are physically accessible to people with disabilities. Requests for sign language interpretation or other auxiliary aids should be directed to Helen Allen at 907-271-2809 at least 7 working days prior to the meeting date.

Dated: January 18, 2001.
Richard W. Surdi,
Acting Director, Office of Sustainable Fisheries, National Marine Fisheries Service.

[FR Doc. 01-2020 Filed 1-23-01; 8:45 am]

BILLING CODE 3510-22-S